DEPARTMENT OF JUSTICE

Notice of Lodging of Consent Decree Under the Comprehensive Environmental Response Compensation, and Liability Act

Notice is hereby given that on October 4, 2006, a proposed Consent Decree in United States v. Afton Chemical Corp;, et al., Case No. 3: 06-cv-763 (“Afton Chemical”), was lodged with the United States District Court for the Southern District of Illinois.

In Afton Chemical, the United States is seeking recovery of approximately $3.5 million in response costs incurred in connection with a 1999-2000 removal action (“Removal Action”) at Sauget Area 2, Southern Site Q, in Cahokia, Illinois. The proposed Consent Decree would resolve the United States’ claims against 21 of the Afton Chemical defendants (the “Settling Defendants”). Under the proposed Consent Decree, the Settling Defendants would pay $2,601,594.20 to the United States. In exchange, they would receive contribution protection and a covenant by the United States not to sue them for response costs incurred in connection with the Removal Action. The Settling Defendants include the following: Afton Chemical Corporation; Allied Waste Industries, Inc.; A.O. Smith Corporation; Barry-Wehmiller Companies, Inc.; BASF Corporation; BFI Waste Systems of North America, Inc.; Blue Tee Corp.; Cyprus Amax Minerals Company; The Dow Chemical Company; Eagle Marine Industries, Inc.; Exxon Mobil Corporation; Flint Group Incorporated; Fru-Con Construction Corporation; The Glidden Company; Mallinckrodt Inc.; Merck & Co., Inc.; Pharmacia Corporation; The Procter & Gamble Company; The Procter & Gamble Manufacturing Company; Service America Corporation; and Union Carbide Corporation.

The Department of Justice will receive for a period of 30 days from the date of this publication comments relating to the proposed Consent Decree. Comments should be addressed to the Assistant Attorney General, Environment and Natural Resources Division, P.O. Box 7611, U.S. Department of Justice, Washington, DC 20044-7611, and should refer to United States v. Afton Chemical Corp., et al., D.J. Ref. 90-11-206089/1.

The proposed Consent Decree may be examined at the Office of the United States Attorney, 9 Executive Drive, Fairview Heights, IL 62208-1344, and at the U.S. Environmental Protection Agency, Region 5, 77 West Jackson Boulevard, Chicago, IL 60604-3590. During the public comment period, the proposed Consent Decree may also be examined on the following Department of Justice Web site: http://www.usdoj.gov/enrd/Consent_Decrees.html. A copy of the proposed Consent Decree may also be obtained by mail from the Consent Decree Library, P.O. Box 7611, U.S. Department of Justice, Washington, DC 20044-7611, or by e-mailing or faxing a request to Tonia Fleetwood (tonia.fleetwood@usdoj.gov, fax number (202) 514-0097, phone confirmation number (202) 514-1547). In requesting a copy from the consent Decree Library, please enclose a check in the amount of $10.50 (25 cents per page reproduction cost) payable to the United States Treasury. If a request for a copy of the proposed Consent Decree is made by fax or e-mail, please forward a check in the aforementioned amount to the Consent Decree Library at the address noted above.

William Brighton,
Assistant Chief, Environmental Enforcement Section, Environmental and Natural Resources Division.

[FR Doc. 06-8744 Filed 10-17-06; 8:45 am]

BILLING CODE 4410-15-M